DEPARTMENT OF JUSTICE

Antitrust Division

Notice Pursuant to the National Cooperative Research and Production Act of 1993—Open Mobile Alliance

Notice is hereby given that, on February 21, 2013, pursuant to Section 6(a) of the National Cooperative Research and Production Act of 1993, 15 U.S.C. 4301 et seq. (“the Act”), Open Mobile Alliance (“OMA”) has filed written notifications simultaneously with the Attorney General and the Federal Trade Commission disclosing changes in its membership. The notifications were filed for the purpose of extending the Act's provisions limiting the recovery of antitrust plaintiffs to actual damages under specified circumstances. Specifically, the following members have been added as parties to this venture: Aisle411, Inc., Palo Alto, CA; Applied Communication Sciences, Red Bank, NJ; CallUp net Ltd., Rosh Haayin, ISRAEL; Cybage Software Private Limited, Vadgaon Sheri, Pune, INDIA; DGIST Daegu Gyeongbuk Institute of Science & Technology, Dalseong-Gun, Daegu, REPUBLIC OF KOREA; InvisiTrack, Inc., Annapolis, MD; KWISA, Gangnam-gu, Seoul, REPUBLIC OF KOREA; Layer 7 Technologies, Vancouver, British Columbia, CANADA; Masang Soft., Inc., SeochGu, Seoul, REPUBLIC OF KOREA; Sensinode Ltd., Oulu, FINLAND; and Seven Networks International Oy, Espoo, FINLAND.

The following members have been withdrawn as parties to this venture: DAO Lab Ltd., Shatin, N.T., HONG-KONG CHINA; Dynamic Motion Technologies, Ipoh, Perak, MALAYSIA; Emtrace Technologies, Inc., Gangnam-Gu, Seoul, REPUBLIC OF KOREA; Flextronics (China) Electronics Technology Co., Ltd., Haidian District, Beijing, PEOPLE'S REPUBLIC OF CHINA; Hand Cell Phone, Chattanooga, TN; Insprit, Seoul, REPUBLIC OF KOREA; KT Corp., Seocho-dong, Seocho-gu, Seoul, REPUBLIC OF KOREA; Mobile Tag SAS, Paris, FRANCE; mquadr.at software engineering & consulting GmbH, Vienna, AUSTRIA; NeoMedia Technologies, Inc., Atlanta, GA; Neustar Inc., Sterling, VA; NVIDIA Development UK Ltd., Bristol, UNITED KINGDOM; Polaris Wireless, Mountain View, CA; RealNetworks, Inc., Seattle, WA; SeeRoo Information Co., Ltd., Songpa-gu, Seoul, REBUPLIC OF KOREA; Simartis Telecom SRL, Bucharest, ROMANIA; Smartontech Co., Ltd., Ebene, Mauritius, DENMARK; Songdo Telecom, Inc., Yeonsu-gu, Incheon, REPUBLIC OF KOREA; Synchronica plc, Lonsdale Gardens, Royal Tunbridge Wells, UNITED KINGDOM; Tekelec, Morrisville, NC; and Verimatrix, Inc., San Diego, CA.

The following members have changed their names: Motorola Mobility Inc. to Motorola Mobility LLC, Schaumburg, IL; SK Telecom to SK Planet, Seoul; REPUBLIC OF KOREA; Sony Ericsson Mobile Communications, AB to Sony Mobile Communications AB, Stockholm, SWEDEN; and mobilkom austria AG to Telekom Austria AG, Wien, AUSTRIA.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on February 27, 2012. A notice was published in the Federal Register pursuant to Section 6(b) of the Act on March 15, 2012 (FR 77 15395).

Patricia A. Brink,
Director of Civil Enforcement, Antitrust Division.

[FR Doc. 2013-06518 Filed 3-20-13; 8:45 am]

BILLING CODE 4410-11-P